DEPARTMENT OF COMMERCE

International Trade Administration

[A-533-808]

Stainless Steel Wire Rods from India: Preliminary Results and Partial Rescission of Antidumping Duty Administrative Review

Correction

In notice document 03-31354 beginning on page 70765 in the issue of Friday, December 19, 2003, make the following correction:

On page 70765, in the second column, the EFFECTIVE DATE should read December 19, 2003.

[FR Doc. C3-31354 Filed 1-2-04; 8:45 am]

BILLING CODE 1505-01-D